OFFICE OF MANAGEMENT AND BUDGET

Standard Occupational Classification (SOC) Policy Committee's Recommendations for the 2018 SOC; Notice

AGENCY: Executive Office of the President, Office of Management and Budget.

ACTION: Notice of Standard Occupational Classification Policy Committee Recommendations to OMB and solicitation of comments.

SUMMARY: Under 31 U.S.C. 1104(d) and 44 U.S.C. 3504(e), the Office of Management and Budget (OMB) is seeking public comment on the Standard Occupational Classification Policy Committee's (SOCPC) recommendations presented in this notice for revising the 2010 Standard Occupational Classification (SOC) for 2018. The review and revision of the 2010 SOC is intended to be completed by the end of 2016 and then released for use beginning in reference year 2018.

The SOC is designed to reflect the current occupational structure of the United States; it classifies all occupations in which work is performed for pay or profit. The SOC is intended to cover all such jobs in the national economy, including occupations in the public, private, and military sectors. All Federal agencies that publish occupational data for statistical purposes are required to use the SOC; State and local government agencies are strongly encouraged to use this national system to promote a common language for categorizing and analyzing occupations.

In a prior Federal Register notice (79 FR 29620, May 22, 2014), OMB and the SOCPC requested comments on: (1) The proposed revision to the 2010 SOC Classification Principles, (2) the intention to retain the 2010 SOC Coding Guidelines, (3) the intention to retain the 2010 SOC Major Group structure, (4) the correction, change, or combination of 2010 SOC detailed occupations, and (5) proposals for new detailed occupations.

The classification principles, coding guidelines, and occupations recommended in this notice reflect consideration of the comments received in response to the May 22, 2014, notice and represent the SOCPC's recommendations to OMB. OMB, in consultation with the SOCPC, plans to consider comments in response to this notice in making its final decisions for the 2018 revision and plans to publish its decisions in the Federal Register. The SOCPC then plans to finish preparing the Standard Occupational Classification Manual 2018 for publication, including finalizing occupational definitions, selecting associated job titles, and developing a crosswalk to the 2010 SOC.

Request for Comments: In addition to general comments on the SOCPC's recommendations for the 2018 SOC, OMB welcomes comments specifically addressing: (1) Changes to the 2018 SOC Classification Principles and Coding Guidelines recommended by the SOCPC; (2) the proposed hierarchical structure of the 2018 SOC, including changes to the major, minor, broad, and detailed occupation groups; (3) the titles, placement, and codes of new occupations that the SOCPC is recommending be added in the revised 2018 SOC; and (4) preliminary definitions for revised and proposed 2018 SOC occupations. The proposed hierarchical structure and preliminary definitions for the revised 2018 SOC are available on the SOC Web site at: www.bls.gov/soc. All comments submitted in response to this notice may be made available to the public, including by posting them on relevant Web sites. For this reason, please do not include in your comments information of a confidential nature, such as sensitive personal information or proprietary information.

Please include contact information and a phone number or email address with your comments to facilitate follow-up if necessary.

DATES: To ensure consideration of comments on the SOCPC's recommendations detailed in this notice, please submit all written comments as soon as possible, but no later than September 20, 2016. Comments received with subject “2018 SOC” by the date specified above will be included as part of the official record. Please be aware of delays in mail processing at Federal facilities due to heightened security. Respondents are encouraged to send comments via email, FAX, or http://www.regulations.gov (discussed in ADDRESSES below).

ADDRESSES: As indicated in the SOC Manual 2010, OMB established the SOC Policy Committee (SOCPC), chaired by the Bureau of Labor Statistics (BLS), to ensure that the SOC remains relevant and meets the needs of individuals and organizations. Accordingly, comments may be sent to: Standard Occupational Classification Policy Committee, U.S. Bureau of Labor Statistics, Suite 2135, 2 Massachusetts Avenue NE., Washington, DC 20212. Telephone number: (202) 691-6500; fax number: (202) 691-6444; or emailed to soc@bls.gov with the subject “2018 SOC.” Because of delays in the receipt of regular mail related to heightened security, respondents are encouraged to use electronic communication methods. Comments may be sent via http://www.regulations.gov—a Federal E-Government Web site that allows the public to find, review, and submit comments on documents published in the Federal Register that are open for comment. Simply type “2018 SOC” (in quotation marks) in the search box for “Rules, Comments, Adjudications or Supporting Documents” and follow the instructions.

Electronic availability. This document is available on the Internet from the SOC Web site at http://www.bls.gov/soc under the section titled “2018 SOC Revision Process.” To obtain this document via email, send a request to soc@bls.gov. The SOC Web site contains information on the purpose, background, and structure of the SOC, as well as additional guidance on providing input to the SOCPC for consideration by OMB during the SOC revision for 2018.

Availability of comment materials. OMB and the SOCPC welcome comments related to any aspect of the proposed 2018 SOC. All comments received may be made available to the public electronically or by visiting the BLS during normal business hours, 8:15 a.m. to 4:45 p.m., in Suite 2135, 2 Massachusetts Avenue NE., Washington, DC 20212. Please call BLS at (202) 691-6500 to make an appointment if you wish to physically view the comments received in response to this or previous notices regarding the SOC. Because all comments may be available to the public, please do not include in your comments information of a confidential nature, such as sensitive personal or proprietary information. If you send an email comment, your email address will be automatically captured and included as part of the comment that is placed in the public docket. Please note that responses to this public comment request containing any routine notice about the confidentiality of the communication will be treated as public comments that may be made available to the public notwithstanding the inclusion of the routine notice.

FOR FURTHER INFORMATION CONTACT: Paul Bugg, Office of Information and Regulatory Affairs, OMB, 10201 New Executive Office Building, 725 17th Street NW., Washington, DC 20503; email: pbugg@omb.eop.gov; telephone number: (202) 395-3095; fax number: (202) 395-7245.

SUPPLEMENTARY INFORMATION:

Purpose and History of the SOC

The U.S. Federal statistical system is decentralized, with 13 principal statistical agencies that have data collection as their primary mission and over 125 other agencies that collect data along with carrying out another primary mission. OMB coordinates the Federal statistical system by developing and overseeing the implementation of Government-wide principles, policies, standards, and guidelines concerning the presentation and dissemination of statistical information. The Standard Occupational Classification (SOC) is one of several standard classification systems established by OMB to ensure coordination of Federal statistical activities. All Federal agencies that publish occupational data for statistical purposes are required to use the SOC to increase data comparability (and thus, data utility) across Federal programs.

The SOC classifies all occupations in the economy, including private, public, and military occupations, in order to provide a means to compare occupational data produced for statistical purposes across agencies. It is designed to reflect the current occupational work structure in the U.S. and to cover all occupations in which work is performed for pay or profit. Information about occupations—employment levels, trends, pay and benefits, demographic characteristics, skills required, and many other items—is widely used by individuals, businesses, researchers, educators, and public policy-makers. The SOC helps ensure that occupational data produced across the Federal statistical system are comparable and can be used together in analysis. It is important to note that the SOC is designed and maintained solely for statistical purposes. Consequently, although the classification may also be used for various nonstatistical purposes (e.g., for administrative, regulatory, or taxation functions), the requirements of government agencies or private users that choose to use the SOC for nonstatistical purposes play no role in its development or revision.

To reflect changes in the economy and in the nature of work, the revision of the SOC must be considered periodically. The SOC was first issued in 1977, with a subsequent revision in 1980. Although the 1980 SOC was the basis for the occupational classification system used in the Census of Population and Housing in 1980 and 1990, neither the 1977 nor the 1980 SOC was widely used for other Federal data sources. With the implementation of the 2000 SOC, for the first time all major occupational data sources produced by the Federal statistical system provided comparable data, greatly improving the utility of the data. The 2010 SOC revision structured data collection, improved comparability, and maintained currency.

The SOCPC, comprised of representatives from ten Federal agencies, was originally chartered in 2005 by OMB to coordinate the revision of the SOC for 2010. Beginning in 2006, OMB published notices in the Federal Register to solicit public comment, questions, and suggestions for the 2010 SOC. The notices resulted in hundreds of comments. Based on these comments, the SOCPC formulated recommendations to OMB. Working with the SOCPC, OMB made its final decisions on the 2010 SOC, published these decisions in the Federal Register in January 2009, and then published final definitions for all detailed 2010 SOC occupations in the Standard Occupational Classification Manual 2010.

The 2010 SOC revision resulted in both major and minor changes to the 2000 SOC. Although the 2010 SOC retained the basic 2000 SOC Major Group structure, its revision increased clarity, corrected errors, and accounted for changes in technology and in the nature or organization of work in our economy. The 821 detailed occupations in the 2000 SOC expanded to 840 in 2010—a net increase that combined some occupations with others and added new ones as well. Meanwhile, almost half of the detailed occupations in the 2010 SOC remained the same as in 2000. However, there were significant updates to information technology, healthcare, and human resource occupations.

The 2010 SOC formalized a set of Coding Guidelines to help data collectors code occupations more consistently and to help data users better understand how occupations are classified. The Direct Match Title File was also introduced as a new feature. The Direct Match Title File lists associated job titles for detailed SOC occupations. Each of these titles is directly matched to a single SOC occupation. All workers with a job title listed in the Direct Match Title File are classified in only one detailed SOC occupation code. Documents related to the Direct Match Title File are available at http://www.bls.gov/soc/#materials. The Direct Match Title File serves as the source for the revamped illustrative examples provided for each occupation in the SOC Manual 2010.

OMB charged the SOCPC to continue as a standing committee to facilitate smooth processes for supporting the use of the SOC and for conducting future SOC revisions. Given the multiple interdependent programs that rely on the SOC, coordinating the decennial revisions of the SOC with these programs is best accomplished by timing revisions of the SOC for the year following North American Industry Classification System revisions, which occur for years ending in 2 and 7. The next such year is 2018, which has the additional benefit of coinciding with the beginning year of the American Community Survey's five-year set of surveys centered on the 2020 Decennial Census.

The SOC Revision for 2018—Overview of the Revision Process

To initiate the formal 2018 SOC revision process, OMB and the SOCPC requested public comment in a May 22, 2014, Federal Register notice on: (1) The proposed revision to the 2010 SOC Classification Principles, (2) the intention to retain the 2010 SOC Coding Guidelines, (3) the intention to retain the 2010 SOC Major Group structure, (4) the correction, change, or combination of 2010 SOC detailed occupations, and (5) proposals for new detailed occupations. The comment period for the May 22, 2014, notice closed on July 21, 2014.

To carry out the bulk of the revision effort, the SOCPC created eight workgroups to examine occupations in the following Major Groups:

• Management; Business and Financial Operations; and Legal Occupations (codes 11-0000, 13-0000, and 23-0000)

• Computer and Mathematical; Architecture and Engineering; and Life, Physical, and Social Science Occupations (codes 15-0000 through 19-0000)

• Community and Social Service; Healthcare Practitioners and Technical; and Healthcare Support Occupations (codes 21-0000, 29-0000, and 31-0000)

• Education, Training, and Library; and Arts, Design, Entertainment, Sports, and Media Occupations (codes 25-0000 through 27-0000)

• Protective Service; Food Preparation and Serving Related; Building and Grounds Cleaning and Maintenance; Personal Care and Service; Sales and Related; and Office and Administrative Support Occupations (codes 33-0000 through 43-0000)

• Farming, Fishing, and Forestry; Construction and Extraction; Installation, Maintenance, and Repair; and Transportation and Material Moving Occupations (codes 45-0000 through 49-0000 and 53-0000)

• Production Occupations (code 51-0000), and

• Military Specific Occupations (code 55-0000).

The workgroups were charged with reviewing hundreds of comments received in response to the May 22, 2014, Federal Register notice and providing recommendations to the SOCPC. Guided by the Classification Principles and Coding Guidelines, the SOCPC reviewed the recommendations from the workgroups and reached decisions by consensus. In response to comments, the SOCPC in its recommendations added occupations, revised occupational titles and definitions, and made changes to the structure and placement of individual occupations. Materials available on the SOC Web site at: www.bls.gov/soc reflect these recommended revisions to the 2010 SOC for 2018.

Significant Changes in the 2018 SOC

In response to the May 22, 2014, Federal Register notice, OMB and the SOCPC received over 300 public comments. The SOCPC considered all comments and recommended to OMB several changes to the SOC Classification Principles, Coding Guidelines, structure, and detailed definitions.

2018 SOC Classification Principles

The SOC Classification Principles form the basis on which the SOC is structured and provide a foundation for classification decisions. The SOCPC recommends revising the 2010 SOC Classification Principles, available at http://www.bls.gov/soc/#materials, as described in the May 22, 2014, notice and altering the first sentence of Classification Principle 8 to remove the word “residual” and inserting the clause “even though such workers may perform a distinct set of work activities” at the end of the second sentence.

Accordingly, the recommended revisions to the 2010 Classification Principles for use in the 2018 SOC would result in the following set of 2018 SOC Classification Principles:

1. The SOC covers all occupations in which work is performed for pay or profit, including work performed in family-operated enterprises by family members who are not directly compensated. It excludes occupations unique to volunteers. Each occupation is assigned to only one occupational category at the most detailed level of the classification.

2. Occupations are classified based on work performed and, in some cases, on the skills, education and/or training needed to perform the work.

3. Workers primarily engaged in planning and the directing of resources are classified in management occupations in Major Group 11-0000. Duties of these workers may include supervision.

4. Supervisors of workers in Major Groups 13-0000 through 29-0000 usually have work experience and perform activities similar to those of the workers they supervise, and therefore are classified with the workers they supervise.

5. Workers in Major Group 31-0000 Healthcare Support Occupations assist and are usually supervised by workers in Major Group 29-0000 Healthcare Practitioners and Technical Occupations, and therefore there are no first-line supervisor occupations in Major Group 31-0000.

6. Workers in Major Groups 33-0000 through 53-0000 whose primary duty is supervising are classified in the appropriate first-line supervisor category because their work activities are distinct from those of the workers they supervise.

7. Apprentices and trainees are classified with the occupations for which they are being trained, while helpers and aides are classified separately because they are not in training for the occupation they are helping.

8. If an occupation is not included as a distinct detailed occupation in the structure, it is classified in an appropriate “All Other” occupation. “All Other” occupations are placed in the structure when it is determined that the detailed occupations included in a broad occupation group do not account for all of the workers in the group, even though such workers may perform a distinct set of work activities. These occupations appear as the last occupation in the group with a code ending in “9” and are identified in their title by having “All Other” appear at the end.

9. The U.S. Bureau of Labor Statistics and the U.S. Census Bureau are charged with collecting and reporting data on total U.S. employment across the full spectrum of SOC Major Groups. Thus, for a detailed occupation to be included in the SOC, either the Bureau of Labor Statistics or the Census Bureau must be able to collect and report data on that occupation.

10. To maximize the comparability of data, time series continuity is maintained to the extent possible.

2018 SOC Coding Guidelines

The SOC Coding Guidelines are intended to assist users when assigning SOC codes and titles to survey responses, and in other coding activities. The SOCPC recommends: (1) Removing the last sentence from Coding Guideline 3 which refers to FAQs in the 2010 SOC User Guide, and (2) altering Coding Guideline 4, in line with the changes proposed for Classification Principle 8 above. Accordingly, the recommended revisions to the 2010 Coding Guidelines for use in the 2018 SOC would result in the following set of 2018 SOC Coding Guidelines:

1. A worker should be assigned to an SOC occupation code based on work performed.

2. When workers in a single job could be coded in more than one occupation, they should be coded in the occupation that requires the highest level of skill. If there is no measurable difference in skill requirements, workers should be coded in the occupation in which they spend the most time. Workers whose job is to teach at different levels (e.g., elementary, middle, or secondary) should be coded in the occupation corresponding to the highest educational level they teach.

3. Data collection and reporting agencies should assign workers to the most detailed occupation possible. Different agencies may use different levels of aggregation, depending on their ability to collect data.

4. Workers who perform activities not described in any distinct detailed occupation in the SOC structure should be coded in an appropriate “All Other” occupation. These occupations appear as the last occupation in a group with a code ending in “9” and are identified by having the words “All Other” appear at the end of the title.

5. Workers in Major Groups 33-0000 through 53-0000 who spend 80 percent or more of their time performing supervisory activities are coded in the appropriate first-line supervisor category in the SOC. In these same Major Groups (33-0000 through 53-0000), persons with supervisory duties who spend less than 80 percent of their time supervising are coded with the workers they supervise.

6. Licensed and non-licensed workers performing the same work should be coded together in the same detailed occupation, except where specified otherwise in the SOC definition.

The 2018 SOC Structure and Detailed Definitions

The SOC classifies workers at four levels of aggregation: (1) Major Group; (2) Minor Group; (3) Broad Occupation; and (4) Detailed Occupation. The 2010 SOC contains 840 detailed occupations, aggregated into 461 broad occupations. In turn, the 2010 SOC combines these 461 broad occupations into 97 minor groups and 23 major groups. The SOCPC intends to retain 2010 SOC major group structure for 2018. In addition, the SOCPC proposes altering the title for Major Group 25-0000 to read, “Educational Instruction and Library Occupations.” Accordingly, the recommended revision would result in the following set of 2018 SOC Major Groups:

11-0000 Management Occupations

13-0000 Business and Financial Operations Occupations

15-0000 Computer and Mathematical Occupations

17-0000 Architecture and Engineering Occupations

19-0000 Life, Physical, and Social Science Occupations

21-0000 Community and Social Service Occupations

23-0000 Legal Occupations

25-0000 Educational Instruction and Library Occupations

27-0000 Arts, Design, Entertainment, Sports, and Media Occupations

29-0000 Healthcare Practitioners and Technical Occupations

31-0000 Healthcare Support Occupations

33-0000 Protective Service Occupations

35-0000 Food Preparation and Serving-Related Occupations

37-0000 Building and Grounds Cleaning and Maintenance Occupations

39-0000 Personal Care and Service Occupations

41-0000 Sales and Related Occupations

43-0000 Office and Administrative Support Occupations

45-0000 Farming, Fishing, and Forestry Occupations

47-0000 Construction and Extraction Occupations

49-0000 Installation, Maintenance, and Repair Occupations

51-0000 Production Occupations

53-0000 Transportation and Material Moving Occupations

55-0000 Military Specific Occupations

The SOCPC recommends revising the 2010 SOC for 2018 to include 869 detailed occupations, aggregated into 457 broad occupations. The 2018 SOC would combine these 457 broad occupations into 98 minor groups and the 23 major groups described above. Of the 869 proposed detailed occupations for the 2018 SOC, 623 would remain exactly the same as in the 2010 SOC, while 246 would experience some type of change to the code, title, and/or definition. Significant updates were made to the management, business, finance, information technology, engineering, social science, education, media, healthcare, personal care, extraction, and transportation occupations. Among the occupations new to the proposed structure are “Project Management Specialists” (13-1082), “Sustainability Analysts” (13-1191), “Financial Risk Specialists” (13-2054), “Data Scientists” (15-2051), “Calibration Technologists and Technicians” (17-3028), “Health Information Technology, Health Information Management, and Health Informatics Specialists and Analysts” (29-9021), and “Surgical Assistants” (29-9093). Within the “Computer and Mathematical Occupations” major group, the “Computer Occupations” minor group code would be changed from 15-1100 to 15-1200 to acknowledge the many changes that have taken place within the group. Within the “Healthcare Practitioners and Technical Occupations” major group, the 2010 SOC broad occupation group 29-1060 “Physicians and Surgeons” would be disaggregated into two new broad occupations “Physicians” (29-1210) and “Surgeons” (29-1240). Within the “Physicians” broad occupation group, new detailed occupations would be added for “Cardiologists” (29-1212), “Dermatologists (29-1213), “Emergency Medicine Physicians” (29-1214), “Neurologists” (29-1217), “Physicians, Pathologists” (29-1222), and “Radiologists” (29-1224). Within the “Surgeons” broad occupation group, new detailed occupations would be added for “Ophthalmologists” (29-1241), “Orthopaedic Surgeons” (29-1242), and “Surgeons, Pediatric” (29-1243). The full proposed hierarchical structure and types of changes to the detailed occupation definitions are available on the SOC Web site at www.bls.gov/soc.

Responses to Comments

In response to the May 22, 2014, Federal Register notice, OMB and the SOCPC received over 300 public comments. Each individual comment received a unique docket number when conveyed to the SOC Coordinating Team at the Bureau of Labor Statistics (BLS). In some cases, the SOCPC considered each part of a docket number separately, adding a decimal point and two digits to indicate each part, (e.g., 1.0071.01, 1.0071.02, etc.). Dockets providing the same or essentially similar comments or suggestions were reviewed simultaneously by the SOCPC. The SOCPC responses for all dockets are available on the SOC Web site at www.bls.gov/soc.

Request for Comments

In addition to general comments on the SOCPC's recommendations for the 2018 SOC, OMB welcomes comments specifically addressing: (1) Changes to the 2018 SOC Classification Principles and Coding Guidelines recommended by the SOCPC; (2) the proposed hierarchical structure of the 2018 SOC, including changes to major, minor, broad, and detailed occupation groups; (3) the titles, placement, and codes of new occupations that the SOCPC is recommending be added in the revised 2018 SOC; and (4) preliminary definitions for revised and proposed new 2018 SOC occupations.

Preliminary Definitions for 2018 SOC Detailed Occupations

Generally, the definitions for SOC detailed occupations contain the minimum description needed to determine which workers would be classified in a particular occupation. Comments are welcome on corrections concerning typographical or definitional errors and other changes to the proposed 2018 SOC detailed occupations, including the combination of occupations. Suggested changes to proposed detailed occupations may address the occupational title, definition, or its placement in the structure.

While conducting initial outreach before the first Federal Register notice was published in May 2014, the SOCPC emphasized that commenters who wished to recommend new occupations should do so in response to the first Notice, so that significant changes could be considered earlier in the process. Commenters who are considering proposing new occupations should carefully follow the guidance contained in the May 22, 2014, notice and supplemental materials available on the SOC Web site. Potential commenters are reminded that the SOC coding system is designed to allow for delineation of occupations below the detailed occupation level for parties wishing to collect additional levels of detail, as stated in Coding Guideline 3. OMB recommends that those needing extra detail use the structure of the Department of Labor's Employment and Training Administration's Occupational Information Network (O*NET), which adds a decimal point and additional digit(s) after the sixth digit of SOC codes.

Next Steps

OMB, in consultation with the SOCPC, plans to consider comments in response to this notice in making its final decisions for the 2018 SOC revision and plans to publish its decisions in the Federal Register. The SOCPC plans to then finish preparing the Standard Occupational Classification Manual 2018 for publication, including finalizing occupational definitions, selecting associated job titles, and developing a crosswalk to the 2010 SOC.

Instructions for Providing SOC Comments

Commenters are strongly encouraged to carefully review the Classification Principles and Coding Guidelines, as these guide the SOCPC's recommendations. Comments that reflect these principles and guidelines are likely to be more pertinent to the SOCPC's deliberations. Because the SOCPC expects to receive hundreds of comments in response to this notice, it would appreciate receiving comments that are concise and well-organized.

OMB expects to consider the final recommendations and approve the final 2018 SOC by spring 2017. After the 2018 SOC is approved, the SOCPC plans to prepare the Standard Occupational Classification Manual 2018 and supporting materials, make them available to the public, and continue its role of maintaining the classification leading up to the next revision, currently contemplated for 2028.

Howard A. Shelanski,
Administrator, Office of Information and Regulatory Affairs.

[FR Doc. 2016-17424 Filed 7-21-16; 8:45 am]

BILLING CODE P